DEPARTMENT OF VETERANS AFFAIRS

[OMB Control No. 2900-NEW]

Agency Information Collection Activity: Longitudinal Investigation of Gender, Health and Trauma (LIGHT) Survey

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before December 21, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-NEW” in any correspondence.

FOR FURTHER INFORMATION CONTACT: Cynthia Harvey-Pryor, Office of Quality, Privacy and Risk (OQPR), Department of Veterans Affairs, 810 Vermont Avenue NW., Washington, DC 20420, (202) 461-5870 or email cynthia.harvey-pryor@va.gov. Please refer to “OMB Control No. 2900-NEW” in any correspondence.

SUPPLEMENTARY INFORMATION:

Authority: Under 38 U.S.C., Part I, Chapter 5, Section 527.

Title: Longitudinal Investigation of Gender, Health and Trauma (LIGHT) Survey.

OMB Control Number: 2900-NEW.

Type of Review: New Collection.

Abstract: The purpose of this study is to understand the cumulative effects of lifetime exposure to trauma and ongoing exposure to trauma such as community and intimate partner violence on Veterans' mental and physical health, including its impact on the reproductive health of Veterans. To implement this research, VHA and entities working on behalf of VHA will conduct a nationwide longitudinal survey of Veterans residing in communities with varying levels of crime. Specifically, this longitudinal study will involve surveying Veterans regarding their life experiences, experiences within their neighborhood, mental health symptomatology, physical health, reproductive health, mental health service use, social support, and coping style three times over the course of approximately 1 year. We will contact a random sample of 14,000 Veterans (11,000 female and 3,000 male) between the ages of 18 and 45 obtained from VA DoD Identity Repository (VADIR) to invite them to participate in this study, with the ultimate goal of achieving a baseline sample of ~4,000 Veterans (~3,000 female and ~1,000 male). Given our primary aim to examine the role of community violence on outcomes, we will oversample for residency in high crime communities using zip codes to ensure that individuals living in these areas are invited to participate and are, therefore, represented in the study sample. We will also oversample rural communities using zip codes. Finally, as we are explicitly interested in under-represented populations in the larger Veteran population, we will also oversample racial minorities. Our response rate target for the survey is ~30%, which is consistent with other recent surveys of the Veteran population. After adjusting for potentially unusable or ineligible records (estimated at ~8%), we predict ~4,000 will complete the study.

An agency may not conduct or sponsor, and a person is not required to respond to a collection of information unless it displays a currently valid OMB control number. The Federal Register Notice with a 60-day comment period soliciting comments on this collection of information was published at 82 FR 37169 on August 8, 2017, page 37169.

Affected Public: Individuals and households.

Estimated Annual Burden:

Time 1 Survey: 3,000 hours.

Time 2 Survey: 3,000 hours.

Time 3 Survey: 3,000 hours.

Estimated Average Burden per Respondent:

Time 1 Survey: 45 minutes.

Time 2 Survey: 45 minutes.

Time 3 Survey: 45 minutes.

Frequency of Response: Annually.

Estimated Number of Respondents:

Time 1 Survey: 4,000.

Time 2 Survey: 4,000.

Time 3 Survey: 4,000.

By direction of the Secretary.
Cynthia Harvey-Pryor,
Department Clearance Officer, Office of Quality, Privacy and Risk, Department of Veterans Affairs.

[FR Doc. 2017-25177 Filed 11-20-17; 8:45 am]

BILLING CODE 8320-01-P